AGENCY FOR INTERNATIONAL DEVELOPMENT

Bureau for Democracy, Conflict and Humanitarian Assistance; Office of Private Voluntary Cooperation/American Schools and Hospitals Abroad; Announcement of Changed Criterion # 8 of the American Schools and Hospitals Abroad (ASHA) Program; Notice

The U.S. Agency for International Development is announcing changed Criterion # 8 of the American Schools and Hospitals Abroad program, pursuant to section 214 of the Foreign Assistance Act of 1961, as amended. The program criteria serve as administrative guidance for considering the acceptability and relative merits of applicants.

FOR FURTHER INFORMATION CONTACT: Mr. George Like (202) 712-1766, ASHA, U.S. Agency for International Development, Washington, DC 20523.

SUPPLEMENTARY INFORMATION: On November 26, 1979, the U.S. Agency for International Development published 11 Program Criteria for the American Schools and Hospitals Abroad program. Originally Criterion # 8 stated “The institution must be open to all persons regardless of race, religion, sex, color or national origin. (The above shall not be construed to require enrollment of students of both sexes at an educational institution enrolling males or females only.) Assistance may not be used to train persons for religious pursuits or to construct buildings or other facilities intended for worship or religious instruction.”

On December 16, 2002, Executive Order 13279 “Equal Protection of the Laws for Faith-Based and Community Organizations” was published in the Federal Register (67 FR 77145). In partial fulfillment of that Executive Order, on October 21, 2004, the U.S. Agency for International Development announced in the Federal Register (69 FR 61785) proposed changes to Criterion # 8 of the American Schools and Hospitals Abroad program. The Agency provided a 60-day comment period on the announced proposed changes, which ended on December 20, 2004. No public comments on the proposed changes were received.

Accordingly, Criterion # 8 of the American Schools and Hospitals Abroad program is changed to “The institution must be open to all persons regardless of race, religion, sex, color or national origin. (The above shall not be construed to require enrollment of students of both sexes at an educational institution enrolling males or females only.) Direct assistance may not be used to support any inherently religious activities, such as worship, religious instruction or proselytization.”

Leonard M. Rogers,
Deputy Assistant Administrator, Bureau for Democracy, Conflict and Humanitarian Assistance.

[FR Doc. 05-14866 Filed 7-26-05; 8:45 am]

BILLING CODE 6116-01-PF